FEDERAL COMMUNICATIONS COMMISSION

47 CFR Part 73

[DA 06-1309; MB Docket No. 05-150; RM-11214]

Radio Broadcasting Services; Norfolk and Windsor, VA

AGENCY: Federal Communications Commission.

ACTION: Proposed rule; denial.

SUMMARY: This document denies a petition for rulemaking filed by Clear Channel Broadcasting, Licenses, Inc., licensee of Stations WKUS(FM), Norfolk, Virginia and WJCD, Windsor, Virginia, proposing the reallotment of Channel 299A from Windsor to Norfolk, Virginia and the reallotment of Channel 287B from Norfolk to Windsor, Virginia, and the modification of the license for Station WKUS(FM) to reflect Windsor as its community of license and the modification of the license of Station WJCD(FM) to reflect Norfolk as its community of license.

ADDRESSES: Secretary, Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 05-150, adopted June 21, 2006, and released June 23, 2006. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20054, telephone 800-378-3160 or http://www.BCPIWEB.com. This document is not subject to the Congressional Review Act. (The Commission, is, therefore, not required to submit a copy of this Report and Order to the Government Accountability Office pursuant to the Congressional Review Act, see 5 U.S.C. 801(a)(1)(A) because this proposed rule is denied, herein.)

Federal Communications Commission.
John A. Karousos,
Assistant Chief, Audio Division, Media Bureau.

[FR Doc. E6-11051 Filed 7-18-06; 8:45 am]

BILLING CODE 6712-01-P